FEDERAL MINE SAFETY AND HEALTH REVIEW COMMISSION

Information Collection Renewal

AGENCY: Federal Mine Safety and Health Review Commission (FMSHRC).

ACTION: Notice.

SUMMARY: FMSHRC, as required by the Paperwork Reduction Act of 1995 (PRA), is publishing the following summary of a proposed collection for public comment. FMSHRC is soliciting comment concerning the renewal of its information collection titled “Medical Exception Request to the COVID-19 Vaccination Requirement.”

DATES: You should submit written comments by May 4, 2022.

ADDRESSES: Written comments and recommendations for the proposed information collection should be sent within 30 days of publication of this notice to www.reginfo.gov/public/do/PRAMain (Public Comment of Information Collection). Find this particular information collection by selecting “Currently under 30-day Review—Open for Public Comments” or by using the search function.

FOR FURTHER INFORMATION CONTACT: Leslie Bayless, lbayless@fmshrc.gov, FMSHRC Chief Operating Officer, (202) 434-9900, 1331 Pennsylvania Avenue NW, Suite 520N, Washington, DC 20004-1710. When submitting comments or requesting information, please include the document identifier 2022-01441 and project title, Information Collection Renewal, for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title: Medical Exception Request to the COVID-19 Vaccination Requirement.

OMB Control No.: 3079-0001.

Abstract: The Safer Federal Workforce Task Force (Task Force) issued guidance, in accordance with the President's Executive Order 14043 (September 9, 2021), requiring Federal employees to be vaccinated against COVID-19 by November 22, 2021 absent an exception required by law. To determine whether employees who request a medical exception qualify for the exception sought, or, alternatively, must comply with the November 22 deadline, FMSHRC developed the “Medical Exception Request to the COVID-19 Vaccination Requirement” which was approved by OMB under an Emergency approval on November 30, 2021. This renewal request seeks to extend the use of the Information Collection Form in the event that COVID-19 Vaccination Requirements are subsequently required in the next three years. This form was developed, consistent with guidance issued by the Task Force, to gather information from employees and applicants for employment who have requested medical exceptions to determine whether such employees qualify for legal exceptions to the vaccine requirement.

Type of Review: Renewal, without change, of a currently approved collection.

Affected Public: Businesses or other for-profit; individuals.

Estimated Number of Respondents: 8 Job Applicants, 8 employees, and 36 medical professionals.

Estimated Burden per Respondent: 0.25 hours for applicants and employees; 0.5 hours for medical professionals.

Total Burden: 22.0 hours.

Dated: March 29, 2022.
Sarah L. Stewart,
Deputy General Counsel, Federal Mine Safety and Health Review Commission.

[FR Doc. 2022-06948 Filed 4-1-22; 8:45 am]

BILLING CODE P